ENVIRONMENTAL PROTECTION AGENCY

40 CFR Part 257

[FRL-7642-9]

Delaware and Maryland: Adequacy of State Solid Waste Landfill Permit Programs Under RCRA Subtitle D

AGENCY: Environmental Protection Agency (EPA).

ACTION: Proposed rule.

SUMMARY: This document proposes to approve Delaware's and Maryland's solid waste regulations which ensure that hazardous waste from conditionally exempt small quantity generators (CESQGs) will only be disposed of in accordance with EPA regulations. In the “Rules and Regulations” section of this Federal Register, EPA is approving Delaware's and Maryland's regulations by an Immediate Final Rule. EPA did not make a proposal prior to the Immediate Final Rule because we believe this action is not controversial and do not expect comments that oppose it. We have explained the reasons for this approval in the preamble to the Immediate Final Rule. Unless we receive written comments which oppose this approval during the comment period, the Immediate Final Rule will become effective on the date it establishes, and we will not take further action on this proposal. If we receive comments that oppose this action, we will withdraw the Immediate Final Rule, and it will not take effect. We will then respond to public comments in a later Final Rule based on this proposal. You will not have another opportunity for comment. If you want to comment on this action, you must do so at this time.

DATES: Send your written comments by May 3, 2004.

ADDRESSES: Written comments should be sent to Mike Giuranna, RCRA State Programs Branch, Waste & Chemicals Management Division (3WC21), U.S. EPA Region III, 1650 Arch Street, Philadelphia, Pennsylvania 19103-2029, telephone: (215) 814-3298. Comments may also be submitted electronically through the Internet to: giuranna.mike@epa.gov or by facsimile at (215) 814-3163. You may examine copies of the relevant portions of Delaware's and Maryland's regulations during normal business hours at EPA, Region III.

FOR FURTHER INFORMATION CONTACT: Mike Giuranna, Mailcode 3WC21, RCRA State Programs Branch, U.S. EPA Region III, 1650 Arch Street, Philadelphia, PA 19103-2029, Phone Number: (215) 814-3298, e-mail: giuranna.mike@epa.gov.

SUPPLEMENTARY INFORMATION: For additional information, please see the Immediate Final Rule published in the “Rules and Regulations” section of today's Federal Register.

Dated: January 8, 2004.
Donald S. Welsh,
Regional Administrator, Region III.

[FR Doc. 04-7469 Filed 4-1-04; 8:45 am]

BILLING CODE 6560-50-P